DEPARTMENT OF TRANSPORTATION

Surface Transportation Board

[Section 5a Application No. 1 (Sub-No. 10)]

Household Goods Carriers Bureau Committee—Agreement

AGENCY: Surface Transportation Board, DOT.

ACTION: Request for comments.

SUMMARY: The Surface Transportation Board published a document in the Federal Register of February 11, 2000, concerning the reply due date. This document contained an incorrect date.

FOR FURTHER INFORMATION CONTACT: Joseph H. Dettmar, (202) 565-1600.

Correction

In the Federal Register February 11, 2000, in Section 5a Application No. 1 (Sub-No. 10), on page 7098, in the third column, correct the “Dates” to read:

DATE: Comments are due by March 27, 2000; replies are due April 26, 2000.

Dated: February 16, 2000.
Vernon A. Williams.
Secretary.

[FR Doc. 00-4100 Filed 2-18-00; 8:45 am]

BILLING CODE 4915-00-M